DEPARTMENT OF LABOR

Office of the Secretary

Submission for OMB Review: Comment Request

May 29, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: OMB Desk Officer for the Occupational Safety and Health Administration (OSHA), Office of Management and Budget, Room 10235, Washington, DC 20503, Telephone: 202-395-7316 / Fax: 202-395-6974 (these are not toll-free numbers), e-mail: OIRA_submission@omb.eop.gov within 30 days from the date of this publication in the Federal Register.

In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Subpart A (General Provisions) and Subpart B (Confined and Enclosed Spaces and Other Dangerous Atmospheres in Shipyard Employment) (29 CFR part 1915).

OMB Control Number: 1218-0011.

Agency Form Number: None.

Affected Public: Private Sector—Business or other for-profits and Not-for-profit institutions.

Estimated Number of Respondents: 639.

Estimated Total Annual Burden Hours: 312,774.

Estimated Total Annual Costs Burden: $0.

Description: The information collection requirements contained in 29 CFR part 1915, Subparts A and B serve to ensure that shipyard personnel do not enter confined spaces that contain oxygen deficient, toxic or flammable atmospheres, For additional information, see related notice published at 73 FR 8713 on February 14, 2008.

Agency: Occupational Safety and Health Administration.

Type of Review: Extension without change of a previously approved collection.

Title of Collection: Powered Industrial Trucks (29 CFR 1910.178).

OMB Control Number: 1218-0242.

Agency Form Number: None.

Affected Public: Private Sector—Business or other for-profits.

Estimated Number of Respondents: 1,134,699.

Estimated Total Annual Burden Hours: 854,538.

Estimated Total Annual Costs Burden: $238,245.

Description: 29 CFR 1910.178 contains several information collection requirements addressing truck design, construction, and modification, as well as certification of training and evaluation for truck operators. For additional information, see related notice published at 73 FR 12468 on March 7, 2008.

Darrin A. King,
Acting Departmental Clearance Officer.

[FR Doc. E8-12342 Filed 6-3-08; 8:45 am]

BILLING CODE 4510-26-P